DEPARTMENT OF HEALTH AND HUMAN SERVICES

Administration for Community Living

Administration on Disabilities, The President's Committee for People With Intellectual Disabilities

AGENCY: Administration for Community Living, HHS.

ACTION: Notice.

SUMMARY: The President's Committee for People with Intellectual Disabilities (PCPID) will host a meeting for its members to discuss the 2024 PCPID Report focused on Home and Community Based Services (HCBS) and discuss emerging issues facing people with intellectual disabilities. All the PCPID meetings, in any format, are open to the public. Members of the public can join in person or virtually. This meeting will be conducted in presentation and discussion format.

DATES: The meeting will take place on Septmber 26, 2024 from 9:00 a.m. to 4:00 p.m. (EST) and September 27, 2024 from 9:00 a.m. to 3:00 p.m. (EST).

Comments received by September 13, 2024 will be shared with the PCPID at the September 26-27, 2024 meeting.

ADDRESSES:

Comments: Comments and suggestions may be shared through the following ACL.gov link: https://acl.gov/form/pcpid.

In Person/Webinar/Conference Call: The meeting is open to the public and will be hosted at the U.S. Department of Health and Human Services on September 26 and September 27, 2024. The meeting will occur at the Switzer Building Conference Room 1400 located at 330 C Street SW, Washington, DC 20201. Members of the public can observe the meeting in person or virtually. To observe the meeting in person, seating will be available for the first 25 persons to reserve seats due to space limitations. To participate in the meeting virtually, the meeting will be hosted on zoom meeting platform. In order to observe the proceedings in person or virtually, you must register in advance of the meeting at the following link: https://us06web.zoom.us/meeting/register/tZAlceGurzwjH9FLdHPW7YZKOrs3l5GuCDnq.

FOR FURTHER INFORMATION CONTACT: Mr. David Jones, Director, Office of Intellectual Developmental Disabilities, 330 C Street SW, Switzer Building, Room 1126, Washington, DC 20201. Telephone: 202-795-7367. Fax: 202-795-7334. Email: David.Jones@acl.hhs.gov.

SUPPLEMENTARY INFORMATION:

Agenda: The Committee will discuss the 2024 PCPID Report focused on Home and Community Based Services as it relates to the areas of direct support professionals, employment, community living, and Federal support programs. And, the committee will begin to examine emerging issues faced by people with intellectual disabilities to be addressed by the Committee. This discussion will help develop a framework for the preparation of the 2025 PCPID Report to the President.

Comments: Stakeholder input is very important to the PCPID. Comments and suggestions especially from people with intellectual disabilities, are welcomed. If there are comments related to HCBS or other areas that you would like to inform the PCPID, please share them through the following ACL.gov link: https://acl.gov/form/pcpid.

Background Information on the Committee: The PCPID acts in an advisory capacity to the President and the Secretary of Health and Human Services on a broad range of topics relating to programs, services and support for individuals with intellectual disabilities. The function of PCPID is to: (1) provide such advice concerning intellectual disabilities as the President or the Secretary of Health and Human Services may request; and (2) provide advice to the President and the Secretary of Health and Human Services to promote full participation of people with intellectual disabilities in their communities, such as: (A) expanding educational opportunities; (B) promoting housing opportunities; (C) expanding opportunities for competitive integrated employment; (D) improving accessible transportation options; (E) protecting rights and preventing abuse; and (F) increasing access to assistive and universally designed technologies; and (3) provide advice to the President and the Secretary of Health and Human Services to help advance racial equity and support for people with intellectual disabilities within underserved communities.

Statutory Authority: E.O. 14048, 85 FR 57313.

Dated: August 14, 2024.
Jennifer Johnson,
Acting Commissioner, Administration on Disabilities.

[FR Doc. 2024-18942 Filed 8-22-24; 8:45 am]

BILLING CODE 4154-01-P